DEPARTMENT OF HOUSING AND URBAN DEVELOPMENT

[Docket No. FR-6549-N-02]

Notice of Federal Advisory Committee Meeting; Manufactured Housing Consensus Committee (MHCC)

AGENCY: Office of the Assistant Secretary for Housing—Federal Housing Commissioner, Department of Housing and Urban Development (HUD).

ACTION: Notice.

SUMMARY: This notice sets forth the schedule and proposed agenda for two meetings of the Manufactured Housing Consensus Committee (MHCC) to be held on January 27, 2026, and January 28, 2026, from 11:00 a.m. to 5:00 p.m., Eastern Daylight Time (EDT) each day via teleconference and webinar. The meetings are open to the public. The agenda provides an opportunity for interested parties to comment on the business before the MHCC.

DATES: The MHCC meetings will be held on January 27, 2026, and January 28, 2026, from 11:00 a.m. to 5:00 p.m., Eastern Daylight Time (EDT).

ADDRESSES: The meetings will be held via teleconference.

The teleconference number for meetings is:

Phone: (301) 715-8592

Meeting ID: 861 1591 2859

To access the webinar, use the following link: https://us06web.zoom.us/j/86115912859.

FOR FURTHER INFORMATION CONTACT: Mary Jo Houton, Administrator, Office of Manufactured Housing Programs, Department of Housing and Urban Development, 451 7th Street SW, Room 9166, Washington, DC 20410, telephone (202) 708-6423 (this is not a toll-free number). HUD welcomes and is prepared to receive calls from individuals who are deaf or hard of hearing, as well as from individuals with speech or communication disabilities. To learn more about how to make an accessible telephone call, please visit https://www.fcc.gov/consumers/guides/telecommunications-relay-service-trs.

SUPPLEMENTARY INFORMATION:

Background

Notice of these meetings is provided in accordance with the Federal Advisory Committee Act (FACA) and implementing regulations. 5 U.S.C. 1009(a)(2), 41 CFR 102-3.150. The Manufactured Housing Consensus Committee (MHCC) was established by the National Manufactured Housing Construction and Safety Standards Act of 1974. Public Law 93-383, 88 Stat. 633, codified at 42 U.S.C. 5401 et seq. This Act was later amended by the Manufactured Housing Improvement Act of 2000 (Pub. L. 106-569, 114 Stat. 2944). Under 42 U.S.C. 5403, the purposes of the MHCC are to:

(1) Provide periodic recommendations to the Secretary to adopt, revise, and interpret the Federal manufactured housing construction and safety standards in accordance with this subsection;

(2) Provide periodic recommendations to the Secretary to adopt, revise, and interpret the procedural and enforcement regulations, including regulations specifying the permissible scope and conduct of monitoring in accordance with subsection (b); and

(3) Be organized and carry out its business in a manner that guarantees a fair opportunity for the expression and consideration of various positions and for public participation.

The MHCC is deemed an advisory committee not composed of Federal employees.

Public Comment

Interested parties wishing to make comments on the business of the MHCC are encouraged to register by or before Friday, January 16, 2026, by contacting HUD's Administering Organization for the MHCC (AO), Home Innovation Research Labs; Attention: Kevin Kauffman, 400 Prince Georges Blvd., Upper Marlboro, MD 20774, or email to mhcc@homeinnovation.com or call 1-888-602-4663. Written comments are encouraged. The MHCC strives to accommodate citizen comments to the extent possible within the time constraints of the meeting agenda. Advance registration is strongly encouraged. The MHCC will provide an opportunity for public comments on specific matters before the MHCC.

The Department of Housing and Urban Development (HUD), Office of Manufactured Housing Programs, is providing an opportunity for the MHCC to discuss a Request for Information (RFI) published by the Department of Energy (DOE) on September 3, 2025. The RFI solicits the public's input on certain aspects of its energy conservation standards for manufactured housing. The public input DOE receives is anticipated to help guide its further refinement of certain aspects of energy conservation standards for manufactured housing, as well as the supporting technical analysis, including anticipated costs and benefits. Responses may also serve as the basis for restructuring DOE's approach and framework for standards that would apply to manufactured housing. HUD is scheduling this meeting with the MHCC to allow robust discussion, analysis, and consideration of what, if any, recommendations to make to the Secretary with respect to the standards. This meeting is scheduled for two days to provide sufficient time for thorough consideration and collection of MHCC responses. HUD, therefore, strongly encourages active participation by committee members, stakeholders, and other interested parties.

Tentative Agenda for Tuesday, January 27, 2026

(1) Call to Order—MHCC Chair & Mary Jo Houton, Designated Federal Officer (DFO) (2) Roll Call—AO

(3) Opening Remarks—MHCC Chair & DFO

(4) Introductions;

(a) MHCC Members;

(b) HUD Staff; and

(c) Guests.

(5) Administrative Announcements—DFO & AO

(6) Public Comment Period—15 minutes

(7) Review of the Department of Energy's Request for Information regarding Manufactured Housing Energy Conservation Standards

(8) Public Comment Period—15 minutes

(9) Wrap Up—DFO & AO

(10) Adjourn

Tentative Agenda for Wednesday, January 28, 2026

(1) Reconvene Meeting—MHCC Chair & Mary Jo Houton, Designated Federal Officer (2) Call to Order—MHCC Chair & Mary Jo Houton, Designated Federal Officer (DFO)

(3) Roll Call—AO

(4) Introductions;

(a) MHCC Members;

(b) HUD Staff; and

(c) Guests.

(5) Administrative Announcements—DFO & AO

(6) Public Comment Period—15 minutes

(7) Continue the review of the Department of Energy's Request for Information regarding Manufactured Housing Energy Conservation Standards

(8) Public Comment Period—15 minutes

(9) Wrap Up—DFO & AO

(10) Adjourn

Frank Cassidy,
Assistant Secretary for Housing—Federal Housing Commissioner.

[FR Doc. 2026-00223 Filed 1-8-26; 8:45 am]

BILLING CODE 4210-67-P